DEPARTMENT OF DEFENSE

Office of the Secretary

Meeting of the Secretary of Defense's Defense Advisory Board for Employer Support of the Guard and Reserve (DAB-ESGR)

AGENCY: Department of Defense.

ACTION: Notice of open meeting.

SUMMARY: This notice announces a meeting of the DAB-ESGR. This meeting will focus on the status of DoD actions and recommendations from previous DAB meetings, and discussion of the board's mission and future goals. This meeting is open to the public.

DATES: 0830-1645 hrs, 22 January 2008.

Location: Ballroom, Marriott Crystal Gateway, 1700 Jefferson Davis Highway, Arlington, VA 22202.

FOR FURTHER INFORMATION CONTACT: Interested attendees may contact MAJ Elaine M. Gullotta at 703-696-1385 ext 540, or e-mail at elaine.gullotta@osd.mil.

Agenda

0830 Convene, Role of the Board and Rotation of Members (Mr. James G. Rebholz, Chairman).

0930 Role of the Designated Federal Official (Mr. Dave Patel, Designated Federal Officer).

0945 Ethics Brief, Financial Disclosure Documentation, Standards of Conduct Attorney.

1045 Break.

1100 Honorable Thomas F. Hall, Assistant Secretary of Defense Reserve Affairs.

1200 Lunch.

1300 Vice Admiral John G. Cotton, Chief of Navy Reserve, Commander, Navy Reserve Force.

1430 Board Discussion (Read Ahead documents/Communication Feedback) Due Outs—Subcommittee tasks.

1530 Break.

1545 Summary of Proceedings, FY08 meeting dates.

1630 Administrative Announcements (MAJ Elaine Gullotta, ESGR DAB Action Officer).

1645 Adjourn.

SUPPLEMENTARY INFORMATION: Due to scheduling difficulties the Defense Advisory Board for Employer Support of the Guard and Reserve was unable to finalize its agenda in time to publish notice of its meeting in the Federal Register for the 15-calendar days required by 41 CFR 102-3.150(a). Accordingly, the Committee Management Officer for the Department of Defense, pursuant to 41 CFR 102-3.150(b), waives the 15-calendar day notification requirement.

Dated: January 7, 2008.
C.R. Choate,
Alternate OSD Federal Register Liaison Officer, Department of Defense.

[FR Doc. 08-87 Filed 1-10-08; 8:45 am]

BILLING CODE 5001-06-M